DEPARTMENT OF EDUCATION

Applications for New Awards; American History and Civics Education National Activities—Seminars for America's Semiquincentennial

AGENCY: Office of Elementary and Secondary Education, Department of Education.

ACTION: Notice.

SUMMARY: The Department of Education (Department) is issuing a notice inviting applications for new awards for fiscal year (FY) 2025 for the American History and Civics Education National Activities-Seminars for America's Semiquincentennial (AHC-Seminars) program.

DATES:

Applications Available: June 23, 2025.

Deadline for Notice of Intent To Apply: July 8, 2025.

Deadline for Transmittal of Applications: July 23, 2025.

Deadline for Intergovernmental Review: August 22, 2025.

Pre-Application Webinar Information: The Office of Elementary and Secondary Education intends to conduct informational webinars designed to provide technical assistance to interested applicants for grants under the AHC-Seminars program. These informational webinars will occur approximately two weeks after this notice is published in the Federal Register, with information available at https://www.ed.gov/grants-and-programs/grants-birth-grade-12/well-rounded-education-grants/american-history-and-civics-national-activities-grants.

Note: For new potential grantees unfamiliar with grantmaking at the Department, please consult our “Getting Started with Discretionary Grant Applications” web page at www.ed.gov/grants-and-programs/apply-grant/getting-started-discretionary-grant-applications.

ADDRESSES: For the addresses for obtaining and submitting an application, please refer to our Common Instructions for Applicants to Department of Education Discretionary Grant Programs, published in the Federal Register on December 23, 2024 (89 FR 104528) and available at www.federalregister.gov/documents/2024/12/23/2024-30488/common-instructions-for-applicants-to-department-of-education-discretionary-grant-programs.

FOR FURTHER INFORMATION CONTACT: Orman Feres, U.S. Department of Education, 400 Maryland Avenue SW, Room 4B114, Washington, DC 20202. Telephone: (202) 453-6921. Email: Orman.Feres@ed.gov.

If you are deaf, hard of hearing, or have a speech disability and wish to access telecommunications relay services, please dial 7-1-1.

SUPPLEMENTARY INFORMATION:

Full Text of Announcement

I. Funding Opportunity Description

Assistance Listing Number: 84.422C.

OMB Control Number: 1894-0006.

Purpose of Program: The purpose of the AHC-Seminars program is to promote new and existing evidence-based strategies to encourage innovative American history, civics and government, and geography instruction.

Background: As the Semiquincentennial of the American experiment in self-government approaches, it provides an exceptional opportunity to reflect on the principles that have shaped the nation's foundation. This program will support seminars for educators or students in honor of the 250th anniversary of America's founding.

The success of the American experiment in self-government requires the cultivation of both citizen competency and informed patriotism among the American People. Citizens must understand why our free-market democracy is a highly evolved system of cooperation made robust by our constitutional republic, and how it functions to secure the blessings of liberty for all Americans. This understanding can only be acquired and prove to be lasting when rooted in a recognition of the nobility of America's foundational principles, and an accurate and honest account of American history that shows how the United States has worked through profound challenges to its ideals, including the evils of slavery and segregation, in its ongoing battle to live up to them.

The upcoming Semiquincentennial of America's founding is more than a commemorative milestone—it is a call to reinvest in the education and cultivation of a citizenry capable of sustaining the American experiment in self-government. By supporting seminars that encourage a deeper understanding of our constitutional republic, this new program aims to equip educators or students with the knowledge and character needed to uphold the freedoms we enjoy. Through an honest engagement with our history and an appreciation of the institutions that make our civil society flourish, we can prepare the next generation to carry forward the principles of liberty, limited government, and dedication to the doctrine of equality that define our nation.

Priorities: This notice contains one absolute priority and one competitive preference priority. We are establishing these priorities for the FY 2025 grant competition in which we make awards from the list of unfunded applications from this competition in accordance with section 437(d)(1) of the General Education Provisions Act (GEPA), 20 U.S.C. 1232(d)(1).

Absolute Priority: For FY 2025 in which we make awards from the list of unfunded applications from this competition, this priority is an absolute priority. Under 34 CFR 75.105(c)(3), we consider only applications that meet this priority.

This priority is:

Seminars for educators or students on American History and Civics in honor of the Semiquincentennial of the United States of America.

Applicants must design and implement innovative or new and existing evidence-based approaches to seminars for educators or students specifically focused on American history and civics that directly commemorate the 250th anniversary of the founding of the United States. Seminars must study the American political tradition (ideas, traditions, institutions, and texts essential to American constitutional government and the American heritage) with a focus on the first principles of the Founding, their inclusion in the Declaration of Independence, Constitution, and the Bill of Rights, and their development over time.

Competitive Preference Priority: For FY 2025 in which we make awards from the list of unfunded applications from this competition, this priority is a competitive preference priority. Under 34 CFR 75.105(c)(2)(i), we award up to an additional 10 points to an application, depending on how well the application meets this priority.

Competitive Preference Priority: Civic Institutes at Institutions of Higher Education (0 or 10 points).

Priority will be given to applicants from institutions of higher education that have established independent academic units dedicated to civic thought, constitutional studies, American history, leadership, and economic liberty. These institutes should demonstrate a sustained commitment to robust civil discourse, the liberal arts, and the study of American history and politics through primary documents.

Waiver of Proposed Rulemaking: Under the Administrative Procedure Act (5 U.S.C. 553), the Department generally offers interested parties the opportunity to comment on proposed priorities. Section 437(d)(1) of GEPA, however, allows the Secretary to exempt from rulemaking requirements regulations governing the first grant competition under a new or substantially revised program authority.

This is the first grant competition for this specific program (AHC-Seminars) under section 2233 of the Elementary and Secondary Education Act, as amended (ESEA), and, therefore, this competition qualifies for this exemption. In order to ensure timely grant awards, the Secretary has decided to forgo public comment on the priorities in accordance with section 437(d)(1) of GEPA. These priorities will apply to grants awarded under this competition in FY 2025.

Program Requirements: These program requirements are from section 2233(b)(1) of the ESEA (20 U.S.C. 6663). For FY 2025 in which we make awards from the list of unfunded applications, the following program requirements apply:

A grantee must operate a project for the purposes of expanding, developing, implementing, evaluating, and disseminating for voluntary use, innovative, evidence-based approaches or professional development programs in American history, civics and government, and geography, which shall:

(a) Demonstrate the potential to improve the quality of student achievement in, and teaching of, American history, civics and government, or geography, in elementary and secondary schools; and

(b) Demonstrate innovation, scalability, accountability, and a focus on underserved populations.

Note: An applicant may consider how to meet these requirements by (a) the pre- and post-assessment of participants, and (b) how participants will share their knowledge from attendance at the seminars with elementary and secondary schools.

Definitions: For FY 2025 and any subsequent year in which we make awards from the list of unfunded applications from this competition, the following definitions apply to this competition. The definition of “evidence-based” is from section 8101 of the ESEA. The definitions of “demonstrates a rationale,” “logic model,” “project component,” and “relevant outcome,” are from 34 CFR 77.1.

Demonstrates a rationale means that there is a key project component included in the project's logic model that is supported by citations of high-quality research or evaluation findings that suggest that the project component is likely to significantly improve relevant outcomes.

Evidence-based means an activity, strategy, or intervention that demonstrates a rationale based on high quality research findings or positive evaluation that such activity, strategy, or intervention is likely to improve student outcomes or other relevant outcomes; and includes ongoing efforts to examine the effects of such activity, strategy, or intervention.

Logic model (also referred to as a theory of action) means a framework that identifies key project components of the proposed project (i.e., the active “ingredients” that are hypothesized to be critical to achieving the relevant outcomes) and describes the theoretical and operational relationships among the key project components and relevant outcomes.

Project component means an activity, strategy, intervention, process, product, practice, or policy included in a project. Evidence may pertain to an individual project component or to a combination of project components (e.g., training teachers on instructional practices for English learners and follow-on coaching for these teachers).

Relevant outcome means the student outcome(s) or other outcome(s) the key project component is designed to improve, consistent with the specific goals of the program.

Program Authority: Section 2233 of the ESEA, 20 U.S.C. 6663.

Note: Projects awarded must comply with the nondiscrimination requirements contained in Federal civil rights laws.

Applicable Regulations: (a) The Education Department General Administrative Regulations in 34 CFR parts 75, 77, 79, 81, 82, 84, 86, 97, 98, and 99. (b) The Office of Management and Budget (OMB) Guidelines to Agencies on Governmentwide Debarment and Suspension (Nonprocurement) in 2 CFR part 180, as adopted and amended as regulations of the Department in 2 CFR part 3485. (c) The Guidance for Federal Financial Assistance in 2 CFR part 200, as adopted and amended as regulations of the Department in 2 CFR part 3474.

Note: The regulations in 34 CFR part 86 apply to IHEs only.

II. Award Information

Type of Award: Discretionary grants.

Estimated Available Funds: $14,200,000.

Contingent upon the availability of funds and the quality of applications, we may make additional awards in FY 2026 from the list of unfunded applications from this competition.

Estimated Range of Awards: $500,000-$1,000,000 per year.

Estimated Average Size of Awards: $650,000 per year.

Maximum Award: We will not make an award exceeding $1,000,000 to any applicant per 12-month budget period. The Department plans to fully fund awards made under this notice with FY 2025 funds.

Estimated Number of Awards: 5-10.

Note: The Department is not bound by any estimates in this notice.

Project Period: Up to 36 months.

III. Eligibility Information

1. Eligible Applicants: An institution of higher education or other nonprofit or for-profit organization with demonstrated expertise in the development of evidence-based approaches with the potential to improve the quality of American history, civics and government, or geography learning and teaching.

Note: If multiple eligible entities wish to form a consortium and jointly submit a single application, they must follow the procedures for group applications described in 34 CFR 75.127 through 34 CFR 75.129.

2. a. Cost Sharing or Matching: This competition does not require cost sharing or matching.

b. Supplement-Not-Supplant: This program involves supplement-not-supplant funding requirements. In accordance with section 2301 of the ESEA, funds made available under this program must be used to supplement, and not supplant, other non-Federal funds that would otherwise be expended to carry out activities under this program.

c. Indirect Cost Rate Information: This program uses a training indirect cost rate. This limits indirect cost reimbursement to an entity's actual indirect costs, as determined in its negotiated indirect cost rate agreement, or eight percent of a modified total direct cost base, whichever amount is less. For more information regarding training indirect cost rates, see 34 CFR 75.562. For more information regarding indirect costs, or to obtain a negotiated indirect cost rate, please see www.ed.gov/about/ed-offices/ofo#Indirect-Cost-Division.

d. Administrative Cost Limitation: This program does not include any program-specific limitation on administrative expenses. This program does not include any program-specific limitation on administrative expenses. All administrative expenses must be reasonable and necessary and conform to Cost Principles described in 2 CFR part 200 subpart E of the Uniform Guidance.

3. Subgrantees: A grantee under this competition may not award subgrants to entities to directly carry out project activities described in its application.

IV. Application and Submission Information

1. Application Submission Instructions: Applicants are required to follow the Common Instructions for Applicants to Department of Education Discretionary Grant Programs, published in the Federal Register on December 23, 2024 (89 FR 104528) and available at www.federalregister.gov/documents/2024/12/23/2024-30488/common-instructions-for-applicants-to-department-of-education-discretionary-grant-programs, which contain requirements and information on how to submit an application.

2. Submission of Proprietary Information: Given the types of projects that may be proposed in applications for the AHC-Seminars program, your application may include business information that you consider proprietary. In 34 CFR 5.11, we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition. Please note that, under 34 CFR 79.8(a), we have shortened the standard 60-day intergovernmental review period in order to make an awards by the end of FY 2025.

4. Funding Restrictions: We reference regulations outlining funding restrictions in the Applicable Regulations section of this notice.

5. Recommended Page Limit: The application narrative is where you, the applicant, address the selection criteria that reviewers use to evaluate your application. We recommend that you (1) limit the application narrative to no more than 50 pages and (2) use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, or the appendices. However, the recommended page limit does apply to all of the application narrative, including all text in charts, tables, figures, graphs, and screen shots.

Furthermore, applicants are strongly encouraged to include a table of contents that specifies where each required part of the application is located.

6. Notice of Intent to Apply: The Department will be able to develop a more efficient process for reviewing grant applications if it has a better understanding of the number of entities that intend to apply for funding under this competition. Therefore, the Secretary strongly encourages each potential applicant to notify the Department of its intent to submit an application. To do so, please email the program contact person listed under FOR FURTHER INFORMATION CONTACT with the subject line “Intent to Apply,” and include the applicant's name and a contact person's name and email address.

V. Application Review Information

1. Selection Criteria: The selection criteria for this competition are from 34 CFR 75.210 and are listed below:

(a) Quality of the project design. (30 points)

The Secretary considers the quality of the design of the proposed project. In determining the quality of the design of the proposed project, the Secretary considers the following factors:

(i) The extent to which the proposed project demonstrates a rationale that is aligned with the purposes of the grant program. (10 points)

(ii) The likely benefit to the intended recipients, as indicated by the logic model or other conceptual framework, of the services to be provided. (10 points)

(iii) The extent to which the services to be provided by the proposed project reflect up-to-date knowledge and an evidence-based project component. (10 points)

(b) Significance. (20 points)

The Secretary considers the significance of the proposed project. In determining the significance of the proposed project, the Secretary considers the following factors:

(i) The importance or magnitude of the results or outcomes likely to be attained by the proposed project, especially contributions toward improving teaching practice and student learning and achievement. (10 points)

(ii) The likelihood that the services to be provided by the proposed project will lead to meaningful improvements in the achievement of students as measured against rigorous and relevant standards. (10 points)

(c) Quality of the Management Plan. (Up to 20 points)

The Secretary considers the quality of the management plan for the proposed project. In determining the quality of the management plan for the proposed project, the Secretary considers the following factors:

(i) The extent to which the goals, objectives, and outcomes to be achieved by the proposed project are clearly specified, measurable, and ambitious yet achievable within the project period, and aligned with the purposes of the grant program. (10 points)

(ii) The feasibility of the management plan to achieve project objectives and goals on time and within budget, including clearly defined responsibilities, timelines, and milestones for accomplishing project tasks. (10 points)

(d) Adequacy of resources. (30 points)

The Secretary considers the adequacy of resources for the proposed project. In determining the adequacy of resources, the Secretary considers the following factors:

(i) The adequacy of support for the project, including facilities, equipment, supplies, and other resources, from the applicant or the lead applicant organization. (10 points)

(ii) The extent to which the costs are reasonable in relation to the number of persons to be served, the depth and intensity of services, and the anticipated results and benefits. (10 points)

(iii) The extent to which there is a plan to incorporate the project purposes, activities, or benefits into the ongoing work of the applicant beyond the end of the project period. (10 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In awarding grants under this section, the Secretary shall ensure that, to the extent practicable, grants are distributed among eligible entities that will serve geographically diverse areas, including urban, suburban, and rural areas.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this competition the Department conducts a review of the risks posed by applicants. Under 2 CFR 200.208, the Secretary may impose specific conditions, and under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), we must make a judgment about your integrity, business ethics, and record of performance under Federal awards—that is, the risk posed by you as an applicant—before we make an award. In doing so, we must consider any information about you that is in the System for Award Management's (SAM) Responsibility/Qualification reports (formerly referred to as the Federal Awardee Performance and Integrity Information System (FAPIIS)). You may review and comment on any information about yourself that a Federal agency previously entered and that is currently in the Responsibility/Qualification reports in SAM.

If the total value of your currently active grants, cooperative agreements, and procurement contracts from the Federal Government exceeds $10,000,000, the reporting requirements in 2 CFR part 200, Appendix XII, require you to report certain integrity information to SAM semiannually. Please review these requirements if this grant plus all the other Federal funds you receive exceed $10,000,000.

VI. Award Administration Information

1. Award Notices: If your application is successful, we notify your U.S. Representative and U.S. Senators and send you a Grant Award Notification (GAN); or we may send you an email containing a link to access an electronic version of your GAN. We also may notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. See the standards in 2 CFR 170.105 to determine whether you are covered by 2 CFR part 170.

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: For the purposes of Department reporting under 34 CFR 75.110, the Department has established the following performance measure for the AHC-Seminars Program:

The percentage of participants who demonstrate through pre- and post-assessments an increased understanding of American history, civics and government, and geography.

6. Continuation Awards: In making a continuation award under 34 CFR 75.253, the Secretary considers, among other things, whether a grantee has made substantial progress in achieving the goals and objectives of the project; whether the grantee has expended funds in a manner that is consistent with its approved application and budget; if the Secretary has established performance measurement requirements, whether the grantee has made substantial progress in achieving the performance targets in the grantee's approved application; and whether the continuation of the project is in the best interest of the Federal Government.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Hayley B. Sanon,
Principal Deputy Assistant Secretary and Acting Assistant Secretary, Office of Elementary and Secondary Education.

[FR Doc. 2025-11479 Filed 6-20-25; 8:45 am]

BILLING CODE 4000-01-P